DEPARTMENT OF HEALTH AND HUMAN SERVICES

Office of the Secretary

Agency Information Collection Activities: Submission for OMB Review; Comment Request

The Department of Health and Human Services, Office of the Secretary publishes a list of information collections it has submitted to the Office of Management and Budget (OMB) for clearance in compliance with the Paperwork Reduction Act of 1995 (44 U.S.C. Chapter 35) and 5 CFR 1320.5. The following are those information collections recently submitted to OMB.

1. Simplified Federalwide Assurance and IRB Registration System—NEW—

Developed by the Office of Human Research Protections (OHRP), the new assurance and Institutional Review Board (IRB) registration system is designed to satisfy information collection requirements of Section 491 of the Public Health Services Act, the Common Rule for the Protection of Human Subjects (56 FR 28003) and HHS Regulations at 45 CFR Part 46. Respondents: Not-for Profit Institutions, For-Profits, State, Local or Tribal Governments, Federal Government; Burden Information for the IRB Registration—Total Annual Responses: 667; Average Burden per Response: one hour; Annual Burden: 667 hours. Burden Information for the assurance process is incorporated under OMB control number 0990-0260, which the information collection request for all reporting and recordkeeping requirements contained in the common rule.

OMB Desk Officer: Allison Herron Eydt.

Copies of the information collection packages listed above can be obtained by calling the OS Reports Clearance Officer on (202) 690-6207. Written comments and recommendations for the proposed information collection should be sent directly to the OMB desk officer designated above at the following address: Human Resources and Housing Branch, Office of Management and Budget, New Executive Office Building, Room 10235, 725 17th Street NW., Washington, DC 20503.

Comments may also be sent to Cynthia Agens Bauer, OS Reports Clearance Officer, Room 503H, Humphrey Building, 200 Independence Avenue, SW., Washington, DC 20201. Written comments should be received within 30 days of this notice.

Dated: April 11, 2002.
Kerry Weems,
Acting Deputy Assistant Secretary, Budget.

[FR Doc. 02-9535 Filed 4-18-02; 8:45 am]

BILLING CODE 4160-17-M